DEPARTMENT OF LABOR

Employment and Training Administration

[NAFTA 3980]

Morton Forest Products A.K.A. Tree Source Morton, Washington; Notice of Affirmative Determination Regarding Application for Reconsideration

By letter of September 20, 2000, the company requested administrative reconsideration of the Department of Labor's Notice of Negative Determination Regarding Eligibility to Apply for NAFTA Transitional Adjustment Assistance, applicable to petition number NAFTA 3980. The denial notice was signed on August 18, 2000 and published in the Federal Register on September 12, 2000 (65 FR 55050).

The petitioner alleges that the Department did not survey sufficient customers and provided a list of additional customers of the subject facility.

Conclusion

After careful review of the application, I conclude that the claim is of sufficient weight to justify reconsideration of the Department of Labor's prior decision. The application is, therefore, granted.

Signed at Washington, D.C. this 2nd day of October 2000.
Linda G. Poole,
Certifying Officer, Division of Trade Adjustment Assistance.

[FR Doc. 00-26159 Filed 10-11-00; 8:45 am]

BILLING CODE 4510-30-M